Title 3—

The President

Memorandum of December 4, 2017

Delegation of Authority Under Sections 506(a)(2)(A) and 652 of the Foreign Assistance Act of 1961

Memorandum for the Secretary of State

By the authority vested in me as President by the Constitution and the laws of the United States of America, including section 301 of title 3, United States Code, subject to the fulfillment of the requirements of section 652 of the Foreign Assistance Act of 1961 (Public Law 87-195) (the “Act”), and in order to provide assistance to Iraq, I hereby delegate to the Secretary of State:

(a) the authority under section 506(a)(2)(A)(i)(II) of the Act to direct the drawdown, for the purposes and under the authorities of Chapter 9 of part I of the Act, of up to a total of $22 million in articles and services from the inventory and resources of any agency of the United States Government and military education and training from the Department of Defense;

(b) the authority to make the determination required under section 506(a)(2)(A) of the Act to direct such drawdown; and

(c) the authority under section 652 of the Act to make, before any such drawdown, the required notifications to the Congress.

You are authorized and directed to publish this memorandum in the Federal Register.

THE WHITE HOUSE,

Washington, December 4, 2017

[FR Doc. 2017-28026

Filed 12-22-17; 11:15 am]

Billing code 4710-10-P